DEPARTMENT OF TRANSPORTATION

Office of the Secretary

[Docket No. OST-2005-20112]

Regulatory Review

AGENCY: Office of the Secretary of Transportation (OST), DOT.

ACTION: Notice of public meeting.

SUMMARY: On January 26, 2005, the Department of Transportation (DOT) published a notice of regulatory review explaining its intent to conduct a review of its existing regulations and its current Regulatory Agenda. As part of this review, the Department announced that it would hold a public meeting to discuss and consider the public's comments. We are now publishing the agenda for that meeting.

DATES: The public meeting will be on April 12, 2005, in Washington, DC, beginning at 9:30 a.m. The comment period for this regulatory review closes on April 29, 2005.

ADDRESSES: The public meeting will be held at the Department of Transportation, 400 Seventh Street, SW., Washington, DC 20590, in room 2230.

FOR FURTHER INFORMATION CONTACT: Karen Starring, Attorney Advisor, Office of General Counsel, Department of Transportation, 400 7th St., SW., Room 10424, Washington, DC 20590-0001. Telephone (202) 366-4723. E-mail karen.starring@dot.gov.

SUPPLEMENTARY INFORMATION:

Background

We published a notice of regulatory review on January 26, 2005 (70 FR 3761) that invited public comment on how we could (1) improve our rules to be more effective and less costly or burdensome, (2) identify rules no longer needed and/or new rules that may be needed, and (3) help prioritize our current rulemaking activities, which are set forth in our semi-annual Regulatory Agenda (69 FR 73492, Dec. 13, 2004). We also announced that we would hold a public meeting in Washington, DC, on April 12 and 19, 2005, to further facilitate this process. Based on the requests for participation, we have determined that all participants can be accommodated in one day. Therefore, we will hold the public meeting on April 12, 2005.

Public Meeting Procedures

1. The meeting will be open to all persons who have requested in advance to participate. Seats for other attendees will be available on a first-come, first-serve basis. Please note that seats may become available throughout the public meeting as attendees come and go.

2. This public meeting is being held at the Department of Transportation Headquarters and, therefore, all participants and attendees are subject to federal security screening. All participants and attendees must enter through the Southwest entrance (corner of Seventh and E Street) and bring photo identification. Participants or attendees who have Federal government identification will still need to check in, but will not be required to sign-in. To facilitate security screening, all participants and attendees are encouraged to limit the bags and other items that they bring into the building. Anyone exiting the building for any reason will be required to re-enter through the security checkpoint at the Southwest entrance.

3. The Department's General Counsel will preside over the public meeting. Senior officials of the Department's operating administrations also will attend this meeting.

4. Participants must limit their presentations and submissions of data to the issues discussed in their comments submitted in preparation for the public meeting.

5. We currently plan to make a record of the meeting available in the Department's Internet accessible public docket as soon as possible following the public meeting.

6. We will review and consider all information presented at the public meeting. Position papers or materials presenting views or information related to the issues discussed at the public meeting may be accepted at the discretion of the presiding officer. Please provide 5 copies of all material that you present at the public meeting so we will have copies for all panel members. You may provide additional copies for staff and the audience at your discretion.

7. The meeting is designed to solicit public views and gather additional information for our regulatory review. Therefore, the meeting will be conducted in an informal and non-adversarial manner. No individual will be subject to cross-examination by any other participant; however, DOT representatives may ask questions. In developing prepared remarks, participants should leave time for questions and discussion by the panel during their remarks.

8. We will consider all comments made at the public meeting and those written comments submitted to the docket before publishing a report providing at least a brief response to the comments we have received, including a description of any further action we intend to take.

9. We have tried to accurately allocate time to the participants based on the issues raised in their initial comments and requests for participation. However, we intend to keep the public meeting flowing so participants and others interested in a specific agenda item should arrive early.

Public Meeting Agenda

9:30 a.m. Opening Remarks.

9:40-10 a.m. Electronic Recordkeeping; Locomotive Inspections.

Administration: Federal Railroad Administration.

Participant: Association of American Railroads.

10-10:40 a.m. Hours of Service.

Administration: Federal Motor Carrier Safety Administration.

Participants: Association of American Railroads; American Road & Transportation Builders Association; American Trucking Associations.

10:40-11 a.m. Controlled Substances Testing Requirements; Commercial Vehicle Lighting; Safety Requirements for Intermodal Equipment Providers.

Administrations: Federal Motor Carrier Safety Administration; Office of the Secretary of Transportation; National Highway Traffic Safety Administration.

Participant: American Trucking Associations.

11-11:30 a.m. Regulatory Reform.

Administration: National Highway Traffic Safety Administration.

Participant: Alliance of Automobile Manufacturers Association.

11:30-11:50 a.m. Environmental Streamlining; Clean Air Act Conformity; Historic Preservation.

Administration: Federal Highway Administration.

Participant: American Road & Transportation Builders Association.

11:50-12:10 p.m. Disadvantaged Business Enterprise Program.

Administration: Office of the Secretary of Transportation.

Participant: American Road & Transportation Builders Association.

12:10-1:30 p.m. Lunch.

1:30-2:15 p.m. Dangerous Goods/Hazardous Materials and Safety.

Administrations: Pipeline and Hazardous Materials Safety Administration; Federal Aviation Administration; Federal Motor Carrier Safety Administration.

Participants: Federal Express Corporation; American Trucking Associations.

2:15-2:30 p.m. DOT Reporting Regulations.

Administration: Office of the Secretary of Transportation.

Participant: Federal Express Corporation; United Air Lines.

2:30-2:45 p.m. Cost/Benefit Analysis—FAA Regulations.

Administration: Federal Aviation Administration.

Participant: Federal Express Corporation.

2:45-3 p.m. Lap Child Safety.

Administration: Federal Aviation Administration.

Participant: Baby B'Air Flight Vests.

3-3:15 p.m. Airport Access to Low Fare Carriers.

Administration: Federal Aviation Administration.

Participant: Air Carrier Association of America.

3:15-4 p.m. General Rulemaking.

Administration: Department of Transportation.

Participants: Air Transport Association of America, Inc.; Air Carrier Association of America; United Air Lines, Inc.

4-4:15 p.m. Rates and Tariffs; Code-Share Requirements; Joint-Venture Agreements.

Administration: Office of the Secretary of Transportation.

Participant: United Air Lines, Inc.

4:15-4:30 p.m. Interpretations of Regulations/Enforcement—Aviation.

Administration: Office of the Secretary of Transportation.

Participants: American Society of Travel Agents, Inc.; Air Carrier Association of America.

The Department appreciates the efforts and the information provided by all of the participants in this process. We continue to welcome and encourage comments until April 29, 2005, and those comments will be taken into consideration in our final report.

Regulatory Notices

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://dms.dot.gov.

Authority: 5 U.S.C. 610; E.O. 12866, 58 FR 51735, Oct. 4, 1993.

Issued this 30th day of March, 2005, in Washington, DC.
Rosalind A. Knapp,
Deputy General Counsel.

[FR Doc. 05-6723 Filed 4-5-05; 8:45 am]

BILLING CODE 4910-62-P